DEPARTMENT OF HEALTH AND HUMAN SERVICES

Centers for Medicare and Medicaid Services

[Document Identifier: CMS-R-244]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure compliance with an initiative of the Administration. We cannot reasonably comply with the normal clearance procedures because the use of normal clearance procedures is reasonably likely to cause a statutory deadline to be missed.

The reporting requirements being filed under this collection do not represent substantively new processes for the Programs of All-inclusive Care for the Elderly (PACE) providers. The reporting requirements have been updated in specific areas to provide a mechanism for disclosure and recusal in the event of a conflict of interest involving members of the PACE governing body or their immediate family members. In addition, the requirement that PACE organizations must furnish a copy of signed contracts for inpatient care facilities to CMS and the State administering agency has been removed.

The Medicare and Medicaid Programs: Programs of All-inclusive Care for the Elderly; program revisions final rule, CMS-1201-F, and the reporting requirements in this collection are required to become effective on the same date.

Type of Information Collection Request: Revision of a currently approved collection.

Title of Information Collection: The Medicare and Medicaid Programs; Programs of All-inclusive Care for the Elderly (PACE).

Form Number: CMS-R-244 (OMB#: 0938-0790).

Use: PACE organizations must demonstrate their ability to provide quality community-based care for the frail elderly who meet their State's nursing home eligibility standards using capitated payments from Medicare and the State. PACE programs must provide all Medicare and Medicaid covered services including hospital, nursing home, home health, and other specialized services. This collection is necessary to ensure that only appropriate organizations are selected to become PACE organizations and that CMS has the information necessary to monitor the care they provide.

Frequency: Reporting—Once and On occasion.

Affected Public: Not-for-profit institutions and State, Local, or Tribal Governments.

Number of Respondents: 54.

Total Annual Responses: 108.

Total Annual Hours: 44131.50.

CMS is requesting OMB review and approval of this collection by December 29, 2006, with a 180-day approval period. Written comments and recommendations will be considered from the public if received by the individuals designated below by December 22, 2006.

To obtain copies of the supporting statement and any related forms for the proposed paperwork collections referenced above, access CMS's Web site address at http://www.cms.hhs.gov/PaperworkReductionActof1995 or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 22, 2006: Centers for Medicare and Medicaid Services, Office of Strategic Operations and Regulatory Affairs, Room C4-26-05, 7500 Security Boulevard, Baltimore, MD 21244-1850. Attn: Bonnie L Harkless and, OMB Human Resources and Housing Branch, Attention: Carolyn Lovett, New Executive Office Building, Room 10235, Washington, DC 20503. Fax Number: (202) 395-6974.

Dated: November 9, 2006.
Michelle Shortt,
Director, Regulations Development Group, Office of Strategic Operations and Regulatory Affairs.

[FR Doc. E6-20543 Filed 12-7-06; 8:45 am]

BILLING CODE 4120-01-P